SMALL BUSINESS ADMINISTRATION

Privacy Act of 1974 Matching Program

AGENCY: Office of Disaster Assistance, U.S. Small Business Administration.

ACTION: Notice of a new matching program.

SUMMARY: Department of Homeland Security/Federal Emergency Management Agency (DHS/FEMA) and Small Business Administration (SBA) may not provide duplicative disaster assistance to individuals, businesses, including Private-Not-for Profits (PNPs), or other entities for the same disaster or emergency losses. To accomplish this, DHS/FEMA and SBA will participate in a Computer Matching program to share data and financial/benefits award decisions of individuals, businesses, and/or other entities to verify eligibility for benefits, prevent duplicative aid from being provided in response to the same disaster or emergency and recover aid when duplication of benefits is identified.

DATES: [Submit comments on or before September 29, 2021. This new matching agreement will be effective upon publication and expires 18 months from the date of publication.

ADDRESSES: Inquiries and comments on this proposed matching program can be addressed to

Alejandro Contreras, Director, Preparedness, Communication and Coordination,

Alejandro.Conteras@sba.gov and Matthew Redding, Deputy Director, Individual Assistance Division, Recovery Directorate, Matthew.Redding@fema.dhs.gov.

FOR FURTHER INFORMATION CONTACT: For general information, please contact:

Tammi Hines (202-212-5100), Senior Director for Information Management, Federal Emergency Management Agency, Department of Homeland Security; and David Trzcinski, (202-205-6372), Acting Chief Information Security Officer, Office of the Chief Information Officer, Small Business Administration.

SUPPLEMENTARY INFORMATION: The Agreement between SBA and DHS/FEMA is expected to aid in the reduction of Duplications of Benefits (DOB) payments to survivors of major disaster declarations. This will be accomplished by matching specific FEMA disaster applicant data with SBA disaster loan application and decision data for a declared disaster, as set forth in the Agreement. Since FY 2015 the use of the Agreement has identified 521,873 instances where the same disaster survivor submitted applications to, both agencies, a yearly average of 86,978. Prior to the use of this computer match, SBA loan officers used stand-alone Personal Computers to access FEMA's computer system, National Emergency Management Information System-Individual Assistance (NEMIS-IA) and matched records manually. SBA and DHS/FEMA are dual source and recipient agencies in this matching program.

Participating Agencies U.S.

Department of Homeland Security/Federal Emergency Management Agency and U.S. Small Business Administration.

Authority for Conducting the Matching Program

Robert T. Stafford Disaster Relief and Emergency Assistance Act (Pub. L. 93-288), as amended at 42 U.S.C. 5121 et seq. The Debt Collection Improvement Act of 1996, 31 U.S.C. 3325(d) and 7701(c)(1).

Purpose(s)

DHS/FEMA and SBA may not provide duplicative disaster assistance to individuals, businesses, including Private-Not-for Profits (PNPs), or other entities for the same disaster or emergency losses. To accomplish this, DHS/FEMA and SBA will participate in a Computer Matching program to share data and financial/benefits award decisions of individuals, businesses, and/or other entities to verify eligibility for benefits, prevent duplicative aid from being provided in response to the same disaster or emergency and recover aid when duplication of benefits is identified.

Categories of Individuals

Disaster survivor applicants: individuals, homeowners, renters, businesses, including sole proprietors, Venue operators, and other entities to include Private-Not-for-Profits. All individuals who apply for or express interest in applying for FEMA disaster assistance following a Presidentially declared major disaster or emergency with specific criteria.

Categories of Records

Information relating to pre-application registrants, disaster home and business loan applicants, loan advance and grant applicants and recipients of loan advances and grants, disaster home and business loans. Included are Loan, loan advance, and grant applications, supporting documents, personal history, financial statements, credit information, investigative reports, appraisers' reports, waivers, loan record transfers, correspondence, recommendations, authorizations, disbursement amount, term and rate, payment history, collateral, UCC filings and re-filings, collection and liquidation activities, financial statements, settlements and compromises, bank information, field visit reports, borrower's insurance information and loan accounting information.

Specific data elements to match are: Name, tax identification number/social security number, product (home/business), damaged dwelling address, application data, loss to personal property data, loss mitigation data, SBA loan data, and SBA event date, FEMA Registration ID number, FEMA Disaster ID number, and date of birth, telephone number, damaged property data, insurance policy information, contact address if different from damaged dwelling address, flood zone, flood insurance data, and grant amounts.

System(s) of Records

SBA-20 Disaster Loan Case File, 74 FR 14911 (April 1, 2009) system of records, as amended. Department of Homeland Security (DHS)/Federal Emergency Management Agency (FEMA)-008, 78 FR 83 (April 30, 2013) system of records as amended.

James Rivera,
Associate Administrator for Disaster Assistance, U.S. Small Business Administration.

[FR Doc. 2021-18551 Filed 8-27-21; 8:45 am]

BILLING CODE P